DEPARTMENT OF THE INTERIOR

Bureau of Land Management

[LLNVB00000.L51100000GN0000LVEMF1604460.211B.16XMO#4500106342]

Notice of Availability of the Draft Environmental Impact Statement for the Proposed Greater Phoenix Project, Lander County, NV

AGENCY: Bureau of Land Management, Interior.

ACTION: Notice.

SUMMARY: In compliance with the National Environmental Policy Act of 1969, as amended (NEPA), and the Federal Land Policy and Management Act of 1976, as amended (FLPMA), the Bureau of Land Management (BLM) Mount Lewis Field Office, Battle Mountain, Nevada, has prepared a Draft Environmental Impact Statement (EIS) and is announcing the beginning of the public comment period to solicit public comments on the Draft EIS. Newmont USA Limited (Newmont) is proposing to expand its existing Phoenix Mine, which is located approximately 12 miles southwest of the Town of Battle Mountain in Lander County, Nevada. The Greater Phoenix Project (Project) includes expanding the life of the Phoenix mine from 2040 to 2063; expanding the boundary of the mine by 10,611 acres from 8,228 acres to 18,839 acres; and increasing surface disturbance by 3,497 acres, from 8,374 to 11,871 acres, of which 5,896 acres involve public lands and 5,975 acres are private land.

DATES: To ensure comments will be considered, the BLM must receive written comments on the Draft EIS within 45 days following the date the Environmental Protection Agency publishes its Notice of Availability in the Federal Register. The date(s) and location(s) of any public meetings or other public involvement activities will be announced at least 15 days in advance through public notices, media releases, local media, newspapers, mailings, and the BLM Web site at: goo.gl/JwgwXA.

ADDRESSES: You may submit comments related to the Project by any of the following methods:

• Web site: goo.gl/JwgwXA.

• Email: blm_nv_bmdo_GreaterPhoenixProject@blm.gov.

• Fax: 775-635-4034.

• Mail: BLM Mount Lewis Field Office, 50 Bastian Road, Battle Mountain, NV 89820.

Documents pertinent to this proposal may be examined at the Mount Lewis Field Office.

FOR FURTHER INFORMATION CONTACT: Christine Gabriel, Project Manager; telephone: 775-635-4000; address: 50 Bastian Road, Battle Mountain, Nevada 89820; or email: blm_nv_bmdo_GreaterPhoenixProject@blm.gov. Contact Christine Gabriel to have your name added to BLM's mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Newmont is proposing to expand its existing operations in the Phoenix Mine area, located approximately 12 miles southwest of the Town of Battle Mountain in Lander County, Nevada. The existing authorized Phoenix Mine is a gold and copper mining and beneficiation operation. Mill-grade oxide gold ore is beneficiated to gold concentrate at the Phoenix Mill facility, which also produces small amounts of copper and silver concentrates as trace elements. Mill tailings are deposited in a tailings storage facility. Copper-containing ore is beneficiated using heap leaching followed by solvent extraction and electrowinning of copper from the leach solution. Current authorized facilities in the Phoenix Mine area include the following: Post-reclamation pit highwalls; pit backfills; ore stockpiles; Waste Rock Facilities (WRFs); a Tailings Storage Facility (TSF); growth media stockpiles; borrow areas; Heap Leach Facilities (HLF); evaporation and surge ponds; utility and haul roads; ancillary facilities; utility corridors; and other facilities.

Newmont is proposing to expand the mine—called the Greater Phoenix Project—by amending its current Phoenix Mine Plan of Operations. Within the expanded area, surface disturbance would increase by 3,497 acres, from 8,374 to 11,871 acres, which includes 5,896 acres located on public lands administered by the BLM Mount Lewis Field Office. If the BLM approves an amendment to the authorized Plan of Operations with its existing permits, mining activities at the Phoenix Mine would be extended approximately 24 years. Active closure and reclamation activities are anticipated to extend approximately 13 years beyond the operational phase. Additionally, more than 600 years of post-closure monitoring would follow final reclamation.

The specific details of the Proposed Project include the following: Extension of mine life from 2040 to 2063; expansion of the Plan of Operations boundary by 10,611 acres, from 8,228 acres to 18,839 acres, of which 10,132 acres are BLM-managed public lands; expansion of the Phoenix Pit area through consolidation of existing pit areas and by increasing the depth of the pit by 380 feet, from 4,990 feet above mean sea level (amsl) to a lower depth of 4,610 feet amsl; expansion of the Natomas Waste Rock Facility by 347 acres, from 997 acres to 1,344 acres; expansion of the Phoenix TSF by 1,801 acres, from 1,396 acres to 3,197 acres; expansion of the Phoenix HLC by 79 acres, from 536 acres to 615 acres; expansion of the clay soil borrow area by 819 acres, from 469 acres to 1,288 acres; development of an additional soil borrow area (483 acres); modification of the mine closure approach (including the management of pit water through treatment to meet applicable water quality standards and subsequently put to beneficial use in perpetuity); and realignment of Buffalo Valley Road, as well as realignment of a service power line, fiber optic line, and natural gas pipeline. Under the Proposed Project, four existing rights-of-way would require amendments to existing FLPMA grants.

The Draft EIS, through scoping, has identified and analyzed impacts to the following resource areas: Water resources (including surface water, groundwater, and geochemistry); air quality; vegetation resources (including noxious weed species and special status species); wildlife (including migratory birds and special status species-Greater sage-grouse); livestock grazing management; land use and access; visual resources; cultural resources; Native American cultural concerns; geological resources (including minerals and soils); paleontological resources; recreation; social and economic values; hazardous materials; wetland and riparian zones. Not including existing disturbance, the Proposed Action would impact Greater sage-grouse (GSG) habitat including 200.1 acres in Priority Habitat Management Area; 1,900.1 acres in General Habitat Management Area; 1,684.5 acres in Other Habitat Management Area; and 10,165.5 acres in Non-Habitat Area. Approximately half of the GSG habitat disturbance would be on private land.

The Draft EIS describes and analyzes the Proposed Project's direct, indirect, and cumulative impacts on all affected resources. In addition to the Proposed Project, three alternatives were analyzed, including the Enhanced/Mechanical Evaporation Cell Alternative, Treat Water for Agricultural Cropping on Private Land Alternative, and the No Action Alternative.

On September 29, 2015, a Notice of Intent was published in the Federal Register (80 FR 58501) inviting scoping comments on the Proposed Action. The BLM held a public scoping meeting in Battle Mountain on October 14, 2015. The BLM received a total of seven scoping comment letters during the scoping period. Concerns raised included impacts to water resources, air quality, wildlife, and recreation.

The BLM has utilized and coordinated the NEPA scoping and comment process to help fulfill the public involvement requirements under the National Historic Preservation Act (NHPA) (54 U.S.C. 306108) as provided in 36 CFR 800.2(d)(3), and the agency continues to do so. The information about historical and cultural resources within the area potentially affected by the Proposed Project has assisted the BLM in identifying and evaluating impacts to such resources in the context of both NEPA and the NHPA.

The BLM has consulted and continues to consult with Indian tribes on a government-to-government basis in accordance with Executive Order 13175 and other policies. Tribal concerns, including impacts to Indian trust assets and potential impacts to cultural resources have been analyzed in the Draft EIS. Federal, State, and local agencies, along with tribes and other stakeholders that may be interested in or affected by the Proposed Project, are invited to participate in the comment process.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Jon D. Sherve,
Field Manager, Mount Lewis Field Office.

[FR Doc. 2017-18696 Filed 8-31-17; 8:45 am]

BILLING CODE 4310-HC-P